DEPARTMENT OF JUSTICE

Notice of Lodging of Proposed Consent Decrees Under the Comprehensive Environmental Response, Compensation and Liability Act, Clean Water Act, and Oil Pollution Act

On January 8, 2024, the Department of Justice lodged five proposed consent decrees with the United States District Court for the Northern District of Ohio in the lawsuit entitled United States v. Ohio Refining Co., et al., Civil Action No. 3:24-cv-00039.

The United States filed a Complaint alleging claims against Ohio Refining Co., LLC, Chevron U.S.A. Inc., Energy Transfer (R&M), LLC, Pilkington North America, Inc., and Chemtrade Logistics, Inc., under the Comprehensive Environmental Response, Compensation, and Liability Act (“CERCLA”), the Clean Water Act, and the Oil Pollution Act for recovery of damages for injury to, loss of, or destruction of natural resources resulting from the release of hazardous substances and oil at the Duck & Otter Creeks NRDA Site located near Toledo, Ohio. Each Defendant or its predecessor historically owned and/or operated an industrial facility within the Site which discharged polynuclear aromatic hydrocarbon (“PAH”) compounds, metals (including arsenic and lead), and/or oil into the creeks.

Under the proposed Consent Decrees, the Defendants will collectively pay $7,225,909 in natural resource damages (“NRD”), consisting of $6,322,670 for Trustee-sponsored NRD restoration projects—as identified in a draft Department of the Interior (“DOI”) Restoration Plan, and $903,239 as reimbursement for NRD assessment costs incurred by DOI as Federal Trustee.

The publication of this notice opens a period for public comment on the consent decrees. Comments should be addressed to the Assistant Attorney General, Environment and Natural Resources Division, and should refer to United States v. Ohio Refining Co., et al., D.J. Ref. No. 90-11-3-07084. All comments must be submitted no later than 30 days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Modified Consent Decree may be examined and downloaded at this Justice Department website: https://www.justice.gov/enrd/consent-decrees. We will provide a paper copy of the proposed Modified Consent Decree upon written request and payment of reproduction costs. Please mail your request and payment to: Consent Decree Library, U.S. DOJ—ENRD, P.O. Box 7611, Washington, DC 20044-7611.

Please enclose a check or money order for $33.25 (25 cents per page reproduction cost) payable to the United States Treasury.

Patricia McKenna,
Assistant Section Chief, Environmental Enforcement Section, Environment and Natural Resources Division.

[FR Doc. 2024-00792 Filed 1-16-24; 8:45 am]

BILLING CODE 4410-15-P